DEPARTMENT OF TRANSPORTATION

Federal Aviation Administration

14 CFR Part 39

[Docket No. FAA-2009-0044; Directorate Identifier 2008-NM-132-AD; Amendment 39-15953; AD 2009-14-03]

RIN 2120-AA64

Airworthiness Directives; Bombardier Model CL-600-1A11 (CL-600), CL-600-2A12 (CL-601), CL-600-2B16 (CL-601-3A, CL-601-3R, and CL-604) Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

There have been several Stick Pusher Capstan Shaft failures causing the dormant loss or severe degradation of the stick pusher function. * * *

Dormant loss or severe degradation of the stick pusher function could result in reduced controllability of the airplane. We are issuing this AD to require actions to correct the unsafe condition on these products.

DATES: This AD becomes effective August 12, 2009.

The Director of the Federal Register approved the incorporation by reference of certain publications listed in this AD as of August 12, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Bruce Valentine, Aerospace Engineer, Systems and Flight Test Branch, ANE-172, FAA, New York Aircraft Certification Office, 1600 Stewart Avenue, Suite 410, Westbury, New York 11590; telephone (516) 228-7328; fax (516) 794-5531.

SUPPLEMENTARY INFORMATION:

Discussion

We issued a notice of proposed rulemaking (NPRM) to amend 14 CFR part 39 to include an AD that would apply to the specified products. That NPRM was published in the Federal Register on February 23, 2009 (74 FR 8039). That NPRM proposed to correct an unsafe condition for the specified products. The MCAI states:

There have been several Stick Pusher Capstan Shaft failures causing the dormant loss or severe degradation of the stick pusher function. This directive is issued to revise the first flight of the day check [in the Airplane Flight Manual] of the stall protection system to detect a degradation of the stick pusher function. It also introduces a new periodic maintenance task [in the Airworthiness Limitations Section of the Instructions for Continuing Airworthiness] to check the structural integrity of the stick pusher capstan shaft.

Dormant loss or severe degradation of the stick pusher function could result in reduced controllability of the airplane. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 707 products of U.S. registry. We also estimate that it will take about 1 work-hour per product to comply with the basic requirements of this AD. The average labor rate is $80 per work-hour. Based on these figures, we estimate the cost of this AD to the U.S. operators to be $56,560, or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-14-03 Bombardier, Inc. (Formerly Canadair): Amendment 39-15953. Docket No. FAA-2009-0044; Directorate Identifier 2008-NM-132-AD.

Effective Date

(a) This airworthiness directive (AD) becomes effective August 12, 2009.

Affected ADs

(b) None.

Applicability

(c) This AD applies to the airplanes listed in Table 1 of this AD, certificated in any category.

Table 1—Applicability
Bombardier model— | Serial Nos.—
CL-600-1A11 (CL-600) airplanes | 1004 through 1085 inclusive.
CL-600-2A12 (CL-601) airplanes | 3001 through 3066 inclusive.
CL-600-2B16 (CL-601-3A, CL-601-3R) airplanes | 5001 through 5194 inclusive.
CL-600-2B16 (CL-604) airplanes | 5301 thorough 5665 inclusive.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (g)(1) of this AD. The request should include a description of changes to the required inspections that will ensure the continued operational safety of the airplane.

Subject

(d) Air Transport Association (ATA) of America Code 27: Flight Controls.

Reason

(e) The mandatory continuing airworthiness information (MCAI) states:

There have been several Stick Pusher Capstan Shaft failures causing the dormant loss or severe degradation of the stick pusher function. This directive is issued to revise the first flight of the day check [in the Airplane Flight Manual] of the stall protection system to detect a degradation of the stick pusher function. It also introduces a new periodic maintenance task [in the Airworthiness Limitations Section of the Instructions for Continuing Airworthiness] to check the structural integrity of the stick pusher capstan shaft.

Dormant loss or severe degradation of the stick pusher function could result in reduced controllability of the airplane.

Actions and Compliance

(f) Unless already done, do the following actions.

(1) Within 30 days after the effective date of this AD: Revise the Normal Procedures section of the applicable airplane flight manual (AFM) by inserting a copy of the applicable TR listed in Table 2 of this AD. Thereafter, operate the airplanes per the procedures specified in the applicable TR, except as provided by paragraph (g)(1) of this AD. If the operator has an AFM that is not listed in Table 2 of this AD, within 30 days after the effective date of this AD, revise the AFM using a method approved by the FAA or Transport Canada Civil Aviation (TCCA) (or its delegated agent).

Table 2—Temporary Revisions to the AFM
For Bombardier model— | Use Canadair temporary prevision— | Dated— | To the normal procedures section of—
CL-600-1A11 (CL-600) airplanes | 600/23 | January 30, 2007 | Canadair Challenger CL-600-1A11 AFM.
CL-600-1A11 (CL-600) airplanes | 600-1/18 | January 30, 2007 | Canadair Challenger CL-600-1A11 AFM (Winglets).
CL-600-2A12 (CL-601) airplanes | 601/15 | January 30, 2007 | Canadair Challenger CL-600-2A12 AFM, PSP 601-1B-1.
CL-600-2A12 (CL-601) airplanes | 601/16 | January 30, 2007 | Canadair Challenger CL-600-2A12 AFM, PSP 601-1A-1.
CL-600-2A12 (CL-601) airplanes | 601/20 | January 30, 2007 | Canadair Challenger CL-600-2A12 AFM, PSP 601-1B.
CL-600-2A12 (CL-601) airplanes | 601/28 | January 30, 2007 | Canadair Challenger CL-600-2A12 AFM.
CL-600-2B16 (CL-601-3A and CL-601-3R) airplanes | 601/27 | January 30, 2007 | Canadair Challenger CL-600-2B16 AFM, PSP 601A-1.
CL-600-2B16 (CL-601-3A and CL-601-3R) airplanes | 601/28 | January 30, 2007 | Canadair Challenger CL-600-2B16 AFM, PSP 601A-1-1.
CL-600-2B16 (CL-604) airplanes | 604/22 | January 30, 2007 | Canadair Challenger CL-604 AFM, PSP 604-1.

(2) When information identical to that in a TR specified in paragraph (f)(1) of this AD has been included in the general revisions of the applicable AFM, the general revisions may be inserted into the AFM, and the TR may be removed from that AFM.

(3) Within 30 days after the effective date of this AD: Revise the Airworthiness Limitations section of the Instructions for Continued Airworthiness by incorporating the applicable task in the TR listed in Table 3 of this AD. For all tasks identified in the TRs, the initial compliance time starts from the later of the times specified in paragraph (f)(3)(i) and (f)(3)(ii) of this AD. Thereafter, except as provided by paragraph (g)(1) of this AD, no alternative maintenance task intervals may be used.

(i) Within the compliance time specified in the “Check Interval” or “Task Interval,” as applicable, after the effective date of this AD.

(ii) Within the compliance time specified in the “Check Interval” or “Task Interval,” as applicable, after the date of issuance of the original Canadian airworthiness certificate or the date of issuance of the original Canadian export certificate of airworthiness.

Table 3—Temporary Revisions to the Airworthiness Limitations Section
For Bombardier model— | Use Canadair temporary revision— | Dated— | To the airworthiness limitations section of—
CL-600-1A11 (CL-600) airplanes | 5-138 | June 26, 2007 | Canadair Challenger Time Limits/Maintenance Checks (TLMC), PSP 605, Chapter 5, Section 5-10-30.
CL-600-2A12 (CL-601) airplanes | 5-226 | June 26, 2007 | Canadair Challenger TLMC, PSP 601-5, Chapter 5, Section 5-10-30.
CL-600-2B16 (CL-601-3A and CL-601-3R) airplanes | 5-239 | June 26, 2007 | Canadair Challenger TLMC, PSP 601A-5, Chapter 5, Section 5-10-30.
CL-600-2B16 (CL-604) airplanes | 5-2-32 | May 31, 2007 | Canadair Challenger CL-604 TLMC, Chapter 5, Section 5-10-40.

(4) When the information in applicable TR listed in Table 3 of this AD has been included in the general revisions of the applicable chapter of the Airworthiness Limitations section, the TR may be removed from the Airworthiness Limitations section of the Instruction for Continued Airworthiness.

FAA AD Differences

Note 2: This AD differs from the MCAI and/or service information as follows: No differences.

Other FAA AD Provisions

(g) The following provisions also apply to this AD:

(1) Alternative Methods of Compliance (AMOCs): The Manager, New York Aircraft Certification Office (ACO), FAA, has the authority to approve AMOCs for this AD, if requested using the procedures found in 14 CFR 39.19. Send information to ATTN: Bruce Valentine, Aerospace Engineer, Systems and Flight Test Branch, ANE-172, FAA, New York Aircraft Certification Office, 1600 Stewart Avenue, Suite 410, Westbury, New York 11590; telephone (516) 228-7328; fax (516) 794-5531. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

(4) Special Flight Permits: Special flight permits, as described in Section 21.197 and Section 21.199 of the Federal Aviation Regulations (14 CFR 21.197 and 21.199), are not allowed.

Related Information

(h) Refer to MCAI Canadian Airworthiness Directive CF-2008-12, dated February 8, 2008, and the service information listed in Table 4 of this AD, for related information.

Table 4—All Service Information
Canadair TR— | Dated— | To the—
5-138 | June 26, 2007 | Canadair Challenger TLMC, PSP 605, Chapter 5, Section 5-10-30.
5-226 | June 26, 2007 | Canadair Challenger TLMC, PSP 601-5, Chapter 5, Section 5-10-30.
5-239 | June 26, 2007 | Canadair Challenger TLMC, PSP 601A-5, Chapter 5, Section 5-10-30.
5-2-32 | May 31, 2007 | Canadair Challenger CL-604 TLMC, Chapter 5, Section 5-10-40.
600/23 | January 30, 2007 | Canadair Challenger CL-600-1A11 AFM.
600-1/18 | January 30, 2007 | Canadair Challenger CL-600-1A11 AFM (Winglets).
601/15 | January 30, 2007 | Canadair Challenger CL-600-2A12 AFM, PSP 601-1B-1.
601/16 | January 30, 2007 | Canadair Challenger CL-600-2A12 AFM, PSP 601-1A-1.
601/20 | January 30, 2007 | Canadair Challenger CL-600-2A12 AFM, PSP 601-1B.
601/27 | January 30, 2007 | Canadair Challenger CL-600-2B16 AFM, PSP 601A-1.
601/28 | January 30, 2007 | Canadair Challenger CL-600-2A12 AFM.
601/28 | January 30, 2007 | Canadair Challenger CL-600-2B16 AFM, PSP 601A-1-1.
604/22 | January 30, 2007 | Canadair Challenger CL-604 AFM, PSP 604-1.

Material Incorporated by Reference

(i) You must use the service information contained in Table 5 of this AD to do the actions required by this AD, unless the AD specifies otherwise.

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Table 5—Material Incorporated by Reference
Canadair temporary revision— | Dated— | To the—
5-138 | June 26, 2007 | Canadair Challenger Time Limits/Maintenance Checks, PSP 605, Chapter 5, Section 5-10-30.
5-226 | June 26, 2007 | Canadair Challenger Time Limits/Maintenance Checks, PSP 601-5, Chapter 5, Section 5-10-30.
5-239 | June 26, 2007 | Canadair Challenger Time Limits/Maintenance Checks, PSP 601A-5, Chapter 5, Section 5-10-30.
5-2-32 | May 31, 2007 | Canadair Challenger CL-604 Time Limits/Maintenance Checks, Chapter 5, Section 5-10-40.
600/23 | January 30, 2007 | Canadair Challenger CL-600-1A11 Airplane Flight Manual.
600-1/18 | January 30, 2007 | Canadair Challenger CL-600-1A11 Airplane Flight Manual (Winglets).
601/15 | January 30, 2007 | Canadair Challenger CL-600-2A12 Airplane Flight Manual, PSP 601-1B-1.
601/16 | January 30, 2007 | Canadair Challenger CL-600-2A12 Airplane Flight Manual, PSP 601-1A-1.
601/20 | January 30, 2007 | Canadair Challenger CL-600-2A12 Airplane Flight Manual, PSP 601-1B.
601/27 | January 30, 2007 | Canadair Challenger CL-600-2B16 AFM Airplane Flight Manual PSP 601A-1.
601/28 | January 30, 2007 | Canadair Challenger CL-600-2A12 Airplane Flight Manual.
601/28 | January 30, 2007 | Canadair Challenger CL-600-2B16 Airplane Flight Manual, PSP 601A-1-1.
604/22 | January 30, 2007 | Canadair Challenger CL-604 Airplane Flight Manual, PSP 604-1.

Issued in Renton, WA, on June 11, 2009.
Ali Bahrami,
Manager, Transport Airplane Directorate, Aircraft Certification Service.

[FR Doc. E9-15394 Filed 7-7-09; 8:45 am]

BILLING CODE 4910-13-P